DEPARTMENT OF HEALTH AND HUMAN SERVICES

Centers for Disease Control and Prevention

[60Day-07-0638]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Follow-up Study of Chronic Fatigue Syndrome in Georgia—Reinstatement-0920-0638—Coordinating Center for Infectious Diseases (CCID), Centers for Disease Control and Prevention (CDC).

Background and Brief Description

CDC is planning a follow-up study of Chronic Fatigue Syndrome (CFS) in metropolitan, urban and rural communities in Georgia. This is in response to Congressional recommendations that the Centers for Disease Control and Prevention (CDC) sustain efforts to identify biomarkers for CFS, educate health care providers about the diagnosis and treatment of CFS, and better inform the public about it to aid early detection and improve patient care.

In 2004, OMB approved the information collection, Survey of Chronic Fatigue Syndrome and Chronic Unwellness in Georgia, under OMB Number 0920-0638. This study provided baseline information on CFS and other unexplained fatiguing illness in metropolitan, urban, and rural regions in Georgia. Data from the proposed Follow-up Study of Chronic Fatigue Syndrome in Georgia will be used to describe the clinical course of CFS and evaluate behavioral and biochemical factors associated with outcome. This follow-up study will also determine access to and utilization of health care by persons with CFS and measure direct and indirect economic burden due to the illness. As part of a control strategy, the information from this follow-up study will be used in national and pilot regional provider education programs designed to teach health care providers how to evaluate, diagnose and manage patients with CFS.

The proposed study builds on information from the Georgia survey with the objective of collecting clinical information that will help in the treatment of CFS and will help to interpret results obtained from testing biologic specimens (i.e., identify biomarkers of CFS). This follow-up study begins with a detailed telephone interview of persons who participated in the earlier survey and volunteered to be contacted again. The interview is similar (with minor modifications) to the original interview and is intended to obtain additional data on participant health status during the last twelve-month period. Eligible subjects with CFS, other fatiguing illnesses, and well controls will be asked to participate in clinical evaluations.

Estimated Annualized Burden Hours
Respondents | Number of respondents | Number responses per respondent | Average burden per response (in hours) | Total burden hours
Telephone interview | 2,870 | 1 | 30/60 | 1,435
Clinical Evaluation | 338 | 1 | 450/60 | 2,535
Total |  |  |  | 3,970

Dated: October 19, 2006.
Joan F. Karr,
Acting Reports Clearance Officer, Centers for Disease Control and Prevention.

[FR Doc. E6-17853 Filed 10-24-06; 8:45 am]

BILLING CODE 4163-18-P